DEPARTMENT OF EDUCATION

Meeting of the National Advisory Council on Indian Education

AGENCY: National Advisory Council on Indian Education (NACIE), U.S. Department of Education.

ACTION: Notice of teleconference meeting.

SUMMARY: This notice sets forth the schedule and proposed agenda of an upcoming teleconference meeting of the National Advisory Council on Indian Education (the Council) and is intended to notify the general public of their opportunity to listen as the council conducts their meeting by teleconference. This notice also describes the functions of the Council. Notice of the Council's meetings is required under Section 10(a)(2) of the Federal Advisory Committee Act and by the Council's charter.

Agenda: The purpose of the meeting will be a discussion of the NACIE activity work plan, development of the annual report to Congress, and preparations for making recommendations for reauthorization of the Elementary and Secondary Education Act (ESEA) legislation.

Date and Time: January 18, 2005; 2 p.m. to 4 p.m.

Location: The Department of Education, Room 1W103, 400 Maryland Avenue, SW., Washington, DC 20202. Note: Attendees will be required to show picture identification to enter the building.

FOR FURTHER INFORMATION CONTACT: Bernard Garcia, Group Leader, Office of Indian Education, U.S. Department of Education, 400 Maryland Avenue, SW., Washington, DC 20202. Telephone: 202-260-1454. Fax: 202-260-7770. For security clearance to the building, please submit your name to Bernard Garcia by January 6, 2005.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA. The Council submits to the Congress, not later than June 30 of each year, a report on the activities of the Council that includes recommendations the Council considers appropriate for the improvement of Federal education programs that include Indian children or adults as participants or that may benefit Indian children or adults, and recommendations concerning the funding of any such program.

The general public is welcome to listen to the January 18, 2005 meeting to be held from 2 p.m. to 4 p.m. at the U.S. Department of Education, Room 1W103, 400 Maryland Avenue, SW., Washington, DC. Individuals who need accommodations for a disability in order to participate (i.e., interpreting services, assistive listening devices, materials in alternative format) should notify Bernard Garcia at 202-260-1454 by January 6, 2005. We will attempt to meet requests after this date, but cannot guarantee availability of the requested accommodation. This meeting site is accessible to individuals with disabilities.

A summary of the activities of the meeting and other related materials that are informative to the public and will be available to the public within 14 days after the meeting. Records are kept of all Council proceedings and are available for public inspection at the Office of Indian Education, United States Department of Education, Room 5C141, 400 Maryland Avenue, SW., Washington, DC 20202.

Dated: December 22, 2004.
Rod Paige,
Secretary, U.S. Department of Education.

[FR Doc. 04-28616 Filed 12-29-04; 8:45 am]

BILLING CODE 4000-01-M